DEPARTMENT OF COMMERCE

Economic Development Administration

Proposed Information Collection; Comment Request; Application for Investment Assistance

AGENCY: Economic Development Administration (EDA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 25, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or for copies of the information collection described in this notice should be directed to Kenneth M. Kukovich, EDA PRA Liaison, Office of Management Services, Economic Development Administration, Department of Commerce, HCHB Room 7227, 1401 Constitution Avenue, NW., Washington, DC 20230; telephone: (202) 482-4965; e-mail: kkukovich@eda.doc.gov.

SUPPLEMENTARY INFORMATION:

I. Abstract

EDA's mission is to lead the federal economic development agenda by promoting innovation and competitiveness, preparing American regions for growth and success in the worldwide economy. EDA will fulfill its mission by fostering entrepreneurship, innovation and productivity through investments in infrastructure development, capacity building and business development in order to attract private capital investments and higher-skill, higher-wage jobs to regions experiencing substantial and persistent economic distress. EDA's investments generally take the form of grants or cooperative agreements with eligible recipients. To effectively administer and monitor its economic development assistance programs, EDA collects certain information from applicants for, and recipients of, EDA investment assistance.

Beginning November 7, 2003, all federal agencies are required to post their grant opportunity announcements at www.grants.gov. In FY 2007, the Office of Management and Budget required all federal agencies to post applicable financial assistance applications at www.grants.gov, enabling applicants to submit applications electronically through the Web site. For most of its economic development programs, EDA requires eligible applicants to submit a completed Pre-Application for Investment Assistance (Form ED-900P, OMB Control No. 0610-0094). Once the appropriate EDA regional office considers the ED-900P, it may invite the applicant to submit the full Application for Investment Assistance (Form ED-900A, OMB Control No. 0610-0094). This is the first year that EDA is able to receive pre-applications submitted electronically through www.grants.gov, which has alerted the agency to problems with its two-step application process. The www.grants.gov portal does not support the use of a pre-application followed by a subsequent application. The current process is burdensome and difficult, if not impossible, to implement on www.grants.gov because EDA's current pre-application package consists of Forms ED-900P and SF-424 (Application for Financial Assistance), and various attachments and exhibits which the applicant must include to complete the submission. If EDA later invites the applicant to submit a full application, the applicant must download the application (Form ED-900A) from EDA's Web site at http://www.eda.gov, and re-submit the Form SF-424. Hence, the current process is duplicative, inefficient and time-consuming for the applicant.

EDA's solution to this problem is to create a single-step application for investment assistance by combining into one application pertinent information requested from the applicant in the pre-application and application. The single-step application will remove the need for some of the additional attachments currently required in the pre-application and will allow the applicant to use electronically fillable forms that can be posted on www.grants.gov. This solution requires no new system development work on EDA's existing grants management system, so it does not conflict with the Grants Management Line of Business initiative, begun in Spring 2004.

This initiative seeks to develop a government-wide solution to support end-to-end grants management activities that promote citizen access, customer service, and agency financial and technical stewardship. Rather, EDA's single-step application will make www.grants.gov a single access point for eligible applicants to electronically find and apply for its competitive grant opportunities.

This information collection is necessary to determine the applicant's eligibility for investment assistance under EDA's authorizing statute, the Public Works and Economic Development Act of 1965, as amended (42 U.S.C. 3121 et seq.), and regulations (13 CFR Chapter III); the quality of the proposed scope of work to address the pressing economic distress of the region in which the proposed project will be located; the merits of the activities for which the investment assistance is requested; and the ability of the eligible applicant to carry out the proposed activities successfully.

II. Method of Collection

Paper or electronically.

III. Data

OMB Number: 0610-0094.

Form Number: EDA-900A.

Type of Review: Regular submission.

Affected Public: State and local governments; Indian tribes; institutions of higher education; non-profit institutions; business or other for-profit organizations; individuals or households.

Estimated Number of Respondents: 875.

Estimated Time Per Response: 40 hours (current burden for forms ED-900P and ED-900A is 46 hours).

Estimated Total Annual Burden Hours: 35,000.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 19, 2007.
Gwellnar Banks,
Management Analyst, Office of the Chief Information Officer.

[FR Doc. E7-7832 Filed 4-24-07; 8:45 am]

BILLING CODE 3510-24-P